DEPARTMENT OF HOUSING AND URBAN DEVELOPMENT

[Docket No. FR-5758-N-08]

60-Day Notice of Proposed Information Collection: Energy Evaluation of Public Housing Capital Fund (PHCF), Category 4, Option 2 Grantees

AGENCY: Office of Policy Development and Research, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: September 9, 2014.

ADDRESSES: Interested persons are invited to submit comments regarding this proposal. Comments should refer to the proposal by name and/or OMB Control Number and should be sent to: Colette Pollard, Reports Management Officer, QDAM, Department of Housing and Urban Development, 451 7th Street SW., Room 4176, Washington, DC 20410-5000; telephone 202-402-3400 (this is not a toll-free number) or email at Colette.Pollard@hud.gov for a copy of the proposed forms or other available information. Persons with hearing or speech impairments may access this number through TTY by calling the toll-free Federal Relay Service at (800) 877-8339.

FOR FURTHER INFORMATION CONTACT: Colette Pollard, Reports Management Officer, QDAM, Department of Housing and Urban Development, 451 7th Street SW., Washington, DC 20410; email Colette Pollard at Colette.Pollard@hud.gov or telephone 202-402-3400. This is not a toll-free number. Persons with hearing or speech impairments may access this number through TTY by calling the toll-free Federal Relay Service at (800) 877-8339.

Copies of available documents submitted to OMB may be obtained from Ms. Pollard.

SUPPLEMENTARY INFORMATION: This notice informs the public that HUD is seeking approval from OMB for the information collection described in Section A.

A. Overview of Information Collection

Title of Information Collection: Energy Evaluation of Public Housing Capital Fund (PHCF), Category 4, Option 2 Grantees.

OMB Approval Number: None.

Type of Request: This is a new request.

Form Number: None.

Description of the need for the information and proposed use: The information is being collected to assist in evaluating the short- and long-term performance of the energy retrofits funded by HUD through the American Recovery and Reinvestment Act (ARRA). One component of this overall evaluation project is to evaluate the ARRA PIH Capital Fund Recovery Grants awarded through a competitive process with the purpose of creating energy efficient, green communities (Category 4). In particular, this funding aims to “substantively increase energy efficiency and environmental performance of public housing properties and thereby reduce energy costs, generate resident and PHA energy consumption savings, reduce Greenhouse Gas emissions attributable to energy consumption and improve indoor air quality to provide a healthy living environment.” Competitive proposals from eligible PHAs responding to one of two options available were funded under this category: Option 1, Substantial Rehabilitation or New Construction, and Option 2, Moderate Rehabilitation.

Respondents (i.e. affected public): Employees of housing organizations receiving funding from HUD, specifically public housing agencies who received Public Housing Capital Fund, Category 4, Option 2 grants.

Estimated Number of Respondents: 127.

Estimated Number of Responses: 229 (one response per AMP).

Frequency of Response: 1.

Average Hours per Response: 1 (0.5 hrs/utility * 2 utilities/AMP).

Total Estimated Burdens: 229 hrs.

Information collection | Respondents | Number of responses/instances of collection | Frequency of response | Responses per annum | Avg. time per response (Hr/AMP) | Annual burden hours | Hourly cost per response | Annual cost
Energy Survey | 127 | 229 | 1 | 229 | 1 | 229 | $31 | $7,099
Total | 127 |  |  |  |  | 229 |  | $7,099

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

Authority: Section 3507 of the Paperwork Reduction Act of 1995, 44 U.S.C. Chapter 35.

Dated: July 2, 2014.
Katherine M. O'Regan,
Assistant Secretary for Policy Development and Research.

[FR Doc. 2014-16309 Filed 7-10-14; 8:45 am]

BILLING CODE 4210-67-P